DEPARTMENT OF DEFENSE

Office of the Secretary

Science and Technology Reinvention Laboratory Personnel Management Demonstration Project, Department of the Air Force, Air Force Research Laboratory (AFRL)

AGENCY: Office of the Deputy Under Secretary of Defense (Civilian Personnel Policy) (DUSD(CPP)), Department of Defense (DoD).

ACTION: Notice of amendment of the demonstration project plan.

SUMMARY: Section 342(b) of the National Defense Authorization Act (NDAA) for Fiscal Year (FY) 1995, as amended (10 U.S.C. 2358 note) by section 1109 of NDAA FY 2000 and section 1114 of NDAA FY 2001, authorizes the Secretary of Defense to conduct personnel demonstration projects at DoD laboratories designated as Science and Technology Reinvention Laboratories (STRLs). The above-cited legislation authorizes DoD to conduct demonstration projects to determine whether a specified change in personnel management policies or procedures would result in improved Federal personnel management.

This amendment revises the Air Force Research Laboratory's (AFRL) personnel management demonstration project plan by providing flexibility to change the job categories in the future, eliminating the mandatory use of and providing guidance on optional use of Contribution-based Compensation System (CCS) factor weights.

DATES: This amendment to the demonstration project may be implemented beginning on the date of the publication of this notice in the Federal Register.

FOR FURTHER INFORMATION CONTACT:

AFRL: Ms. Michelle Williams, AFRL/DPL, 1864 4th Street, Wright-Patterson AFB, Ohio 45433-7130.

DoD: Ms. Betty A. Duffield, CPMS-PSSC, Suite B-200, 1400 Key Boulevard, Arlington, VA 22209-5144.

SUPPLEMENTARY INFORMATION:

1. Background

The AFRL Personnel Management Demonstration Project's final plan was published in the Federal Register November 27, 1996 (61 FR 60399). This demonstration project involves simplified job classifications, two types of appointment authorities, an extended probationary period, pay banding, and a CCS. Two amendments to the final plan have been published in the Federal Register. The first amendment to clarify which employees are subject to the extended probationary period; provide the CCS bonus to eligible employees subject to the GS-15, step 10 pay cap; and change the name of broadband level descriptor “Cooperation and Supervision” and CCS Factor 6 “Cooperation and Supervision” to “Teamwork and Leadership” was published in the Federal Register January 21, 2000 (65 FR 3498). The second amendment changed the amount of time required to be assessed under CCS from 180 to 90 calendar days and was published in Federal Register October 18, 2005 (70 FR 60495).

2. Overview

Through the past twelve CCS cycles, experience has revealed that guidelines for setting factor weights are overly restrictive and the six (originally five) job categories used for assessment may need to be modified or expanded to cover new and emergent work. This amendment gives more flexibility and authority to the Pay Pool Manager to use and set CCS factor weights and establish and use job categories as the need for new professional skills emerges within the laboratory environment.

I. Executive Summary

The Department of the Air Force established the AFRL personnel management demonstration project to be generally similar to the Department of the Navy China Lake personnel demonstration project. The AFRL demonstration project was built upon the concepts of a contribution-based compensation system, pay banding, two appointing authorities, extended probationary period, and simplified classification procedures.

II. Introduction

Purpose

The AFRL Demonstration Project provides managers, at the lowest practical level, the authority and flexibility needed to achieve a quality laboratory and quality research. The purpose of this notice is to provide flexibility to change the job categories, eliminate the mandatory use of and provide guidance on optional use of Contribution-based Compensation System (CCS) factor weights in an effort to grant management greater flexibility to base the factor weights on the requirements of the position.

Organizational Description

Of the 5,025 employees assigned to AFRL, the majority are located in/at Arlington VA, Brooks City Base TX, Edwards AFB CA, Eglin AFB FL, Hanscom AFB MA, Kirtland AFB NM, Rome NY, Tyndall AFB FL, and Wright-Patterson AFB OH. Employees are also located at locations around the world. At the time this Demonstration Project was implemented, there were four Air Force research laboratories. Later, these merged into AFRL, with 10 technical directorates, plus the AFRL Headquarters, each with a pay pool manager (total of 11 pay pools). There are currently 2,640 Scientists and Engineers (S&Es) in the Demonstration Project.

III. Personnel System Changes

Contribution-Based Compensation System

A. Change Section III.D.7, Weights, by replacing it in its entirety as follows:

7. Factor Weights

This Demonstration Project, in part, is predicated on the belief that the continued success and viability of the laboratory depends on all employees seeking to contribute in each of the areas defined by the CCS factors.

Job categories may be assigned based upon the majority of the duties of a position. The AFRL commander and directors have the option to apply varying weights to the CCS factors based on assigned job categories or other relevant position information (e.g. broadband level). If varying weights are not used, then all factors are considered to be weighted equally.

If varying weights are used they must be applied consistently within a pay pool. As an example, Technical Problem Solving may be more heavily weighted for bench-level S&Es than the factor of Communication. The overall CCS score is determined by multiplying the score for each factor by the weight, adding the results, and then dividing by the sum of the weights. Making all employees accountable for all factors shifts organizational values in new directions. For this reason, if factor weights are used, generally no factor should be given a weight of zero.

Factor weights should be reviewed annually to determine if those that are below 1.0 can be increased toward a weighting of 1.0 to encourage and allow employees to raise their CCS contribution assessment by contributing in a broader range of activities. Contribution in the factors is important to ensure both the overall success of AFRL and individual S&E career growth.

Guidelines for establishing job categories and setting factor weights will be documented in AFRL implementing issuances.

Dated: March 31, 2009.
Patricia L. Toppings,
OSD Federal Register, Liaison Officer, Department of Defense.

[FR Doc. E9-7592 Filed 4-3-09; 8:45 am]

BILLING CODE 5001-06-P